SOCIAL SECURITY ADMINISTRATION

[Docket No. SSA-2018-0045]

Agreement on Social Security Between the United States and the Federative Republic of Brazil; Entry Into Force

AGENCY: Social Security Administration (SSA).

ACTION: Notice.

SUMMARY: We are giving notice of an agreement coordinating the United States (U.S.) and Brazilian social security programs effective on October 1, 2018. The Agreement with Brazil, which was signed on June 30, 2015, is similar to U.S. social security agreements already in force with 26 other countries—Australia, Austria, Belgium, Canada, Chile, the Czech Republic, Denmark, Finland, France, Germany, Greece, Hungary, Ireland, Italy, Japan, Korea (South), Luxembourg, the Netherlands, Norway, Poland, Portugal, the Slovak Republic, Spain, Sweden, Switzerland and the United Kingdom. Section 233 of the Social Security Act authorizes agreements of this type.

Like the other agreements, the U.S.-Brazilian Agreement eliminates dual social security coverage. This situation exists when a worker from one country works in the other country and has coverage under the social security systems of both countries for the same work. Without such agreements in force, when dual coverage occurs, the worker, the worker's employer, or both may be required to pay social security contributions to the two countries simultaneously. Under the U.S.-Brazilian Agreement, a worker who is sent by an employer in one country to work in the other country for 5 or fewer years remains covered only by the sending country. The Agreement includes additional rules that eliminate dual U.S. and Brazilian coverage in other work situations.

The Agreement also helps eliminate situations where workers suffer a loss of benefit rights because they have divided their careers between the two countries. Under the Agreement, workers may qualify for partial U.S. benefits or partial Brazilian benefits based on combined (totalized) work credits from both countries.

Persons who wish to obtain copies of the Agreement or want more information about its provisions may write to the Social Security Administration, Office of International Programs, Post Office Box 17741, Baltimore, MD 21235-7741 or visit the Social Security website at www.socialsecurity.gov/international. The full text of the Agreement and its accompanying Administrative Arrangement is available at https://www.ssa.gov/international/Agreement_Texts/brazil.html.

Nancy A. Berryhill,
Acting Commissioner of Social Security.

[FR Doc. 2018-22509 Filed 10-15-18; 8:45 am]

BILLING CODE 4191-02-P